FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 2770NF.

Name: All Flags Forwarding Inc.

Address: 147-35 183rd Street, Jamaica, NY 11434.

Date Revoked: May 12, 2002.

Reason: Failed to maintain valid bonds.

License Number: 13566N.

Name: Amerilines—U.S.A., Inc.

Address: 1890 NW 82nd Avenue, Suite 112, Miami, FL 33126.

Date Revoked: May 12, 2002.

Reason: Failed to maintain a valid bond.

License Number: 15077N.

Name: Anchor Shipping Co. dba Anchor Shipping Line.

Address: 1031 Ives Dairy Road, Suite 228, North Miami Beach, FL 33179.

Date Revoked: June 1, 2002.

Reason: Failed to maintain a valid bond.

License Number: 17337NF.

Name: Clarke Transportation Services, Inc.

Address: 2000 Professional Way, Bldg. 100, Woodstock, GA 30188.

Date Revoked: May 17, 2002.

Reason: Failed to maintain valid bonds.

License Number: 1882F.

Name: New England Household International Division of New England Household Moving & Storage, Inc.

Address: 104 Bartzak Drive, Holliston, MA 01746-0000.

Date Revoked: May 23, 2002.

Reason: Failed to maintain a valid bond.

License Number: 15367N.

Name: IOCC Corp.

Address: 10865 NW 29th Street, Suite 200, Miami, FL 33172.

Date Revoked: June 9, 2002.

Reason: Failed to maintain a valid bond.

License Number: 11870N.

Name: I.T.N. Consolidators, Inc.

Address: 8430 NW 72nd Street, Miami, FL 33166.

Date Revoked: May 25, 2002.

Reason: Failed to maintain a valid bond.

License Number: 3574F.

Name: I.T.N. of Miami, Inc. dba International, Transportation Network.

Address: 8430 NW 72nd Street, Miami, FL 33166.

Date Revoked: May 25, 2002.

Reason: Failed to maintain a valid bond.

License Number: 10443N.

Name: Immortal Service Inc.

Address: 440 South Hindry Avenue, Suite F, Inglewood, CA 90301.

Date Revoked: June 6, 2002.

Reason: Failed to maintain a valid bond.

License Number: 4246F.

Name: International Shipping Link, Inc.

Address: 2418 W. Devon Avenue, Chicago, IL 60659.

Date Revoked: May 24, 2002.

Reason: Failed to maintain a valid bond.

License Number: 16503NF.

Name: Lukini Shipping Inc.

Address: JFK International Airport, Cargo Bldg. 80, Room 203, Jamaica, NY 11430.

Date Revoked: May 25, 2002.

Reason: Failed to maintain valid bonds.

License Number: 16031N.

Name: Marquis International Consolidators, Inc.

Address: 8209 N.W. 68th Street, Miami, FL 33166.

Date Revoked: April 30, 2002.

Reason: Surrendered license voluntarily.

License Number: 4613F.

Name: N.C.A. International Ocean Freight Forwarders, Inc.

Address: 6801 Chippendale Court, Tampa, FL 33634.

Date Revoked: May 25, 2002.

Reason: Failed to maintain a valid bond.

License Number: 15567NF.

Name: Osher Corporation.

Address: 10838 27th Street, Miami, FL 33172.

Date Revoked: May 29, 2002.

Reason: Failed to maintain valid bonds.

License Number: 16171N.

Name: Petcon Air Freight (USA) Inc.

Address: 175-01 Rockaway Blvd., Room 215, Jamaica, NY 11434.

Date Revoked: May 25, 2002.

Reason: Failed to maintain a valid bond.

License Number: 1941F.

Name: Rome International Freight Consultants, Inc.

Address: 8000 NW 68th Street, Miami, FL 33166.

Date Revoked: May 25, 2002.

Reason: Failed to maintain a valid bond.

License Number: 41F.

Name: S. Jackson & Son, Inc.

Address: 1555 Poydras Street, Suite 1600, New Orleans, LA 70112.

Date Revoked: May 8, 2002.

Reason: Failed to maintain a valid bond.

License Number: 12905N.

Name: Schaefco Container Ltd.

Address: 555 Route 1 South, Woodbridge Towers, Iselin, NJ 08830.

Date Revoked: June 6, 2002.

Reason: Failed to maintain a valid bond.

License Number: 1457F.

Name: Schmidt, Pritchard & Co., Inc.

Address: 9801 West Lawrence Avenue, Schiller Park, IL 60176.

Date Revoked: May 23, 2002.

Reason: Failed to maintain a valid bond.

License Number: 2745NF.

Name: Ssangyong (U.S.A.), Inc.

Address: 601 16th Street, Carlstadt, NJ 07072.

Date Revoked: June 6, 2002.

Reason: Failed to maintain valid bonds.

License Number: 17334N.

Name: Suburban Moving & Storage, Inc.

Address: 1720 Willow Avenue, Weehawken, NJ 07087.

Date Revoked: May 23, 2002.

Reason: Failed to maintain a valid bond.

License Number: 11619N.

Name: Victoriana C. Tirona dba Bulakena Ocean & Air Forwarders.

Address: 4995 Mission Street, San Francisco, CA 94112.

Date Revoked: June 9, 2002.

Reason: Failed to maintain a valid bond.

License Number: 16837F.

Name: West Coast Forwarding, Inc.

Address: 3255 Wilshire Blvd., Suite 1805, Los Angeles, CA 90010.

Date Revoked: May 2, 2002.

Reason: Failed to maintain a valid bond.

License Number: 4341F.

Name: USA Logistics, Incorporated.

Address: 22029 West Conway Place, Saugus, CA 91350.

Date Revoked: May 22, 2002.

Reason: Failed to maintain a valid bond.

Sandra L. Kusumoto,
Director, Bureau of Consumer Complaints and Licensing.

[FR Doc. 02-16759 Filed 7-3-02; 8:45 am]

BILLING CODE 6720-01-P